Presidential Determination No. 2017-02 of November 16, 2016

Eligibility of the Multinational Force and Observers To Receive Defense Articles and Defense Services Under the Foreign Assistance Act of 1961 and the Arms Export Control Act

Memorandum for the Secretary of State

By the authority vested in me as President by the Constitution and the laws of the United States, including section 503(a) of the Foreign Assistance Act of 1961 and section 3(a)(1) of the Arms Export Control Act, I hereby find that the furnishing of defense articles and defense services to the Multinational Force and Observers will strengthen the security of the United States and promote world peace.

You are authorized and directed to transmit this determination and the accompanying memorandum of justification to the Congress and publish this determination in the Federal Register.

THE WHITE HOUSE,

Washington, November 16, 2016

[FR Doc. 2016-28796

Filed 11-25-16; 11:15 am]

Billing code 4710-10-P